DEPARTMENT OF TRANSPORTATION

Federal Motor Carrier Safety Administration

[Docket No. FMCSA-2023-0181]

Agency Information Collection Activities; Renewal of an Approved Information Collection: Motor Carrier Records Change Form

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. The purpose of this ICR titled, “Motor Carrier Records Change Form,” is to collect information required by the Office of Registration to process name changes, address changes, and reinstatements of operating authority for motor carriers, freight forwarders, and brokers. FMCSA requests approval to renew an ICR titled, “Motor Carrier Records Change Form.”

DATES: Comments on this notice must be received on or before February 12, 2024.

ADDRESSES: You may submit comments identified by Docket Number FMCSA-2023-0181 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Mr. Jeffrey Secrist, Office of Registration, Chief, Registration, Licensing, and Insurance Division, DOT, FMCSA, West Building 6th Floor, 1200 New Jersey Avenue SE, Washington, DC 20590; (202) 385-2367; jeff.secrist@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2023-0181), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission. If you want us to notify you that we received your comments, please include a self-addressed, stamped envelope or postcard, or print the acknowledgement page that appears after submitting comments online.

To submit your comment online, go to https://www.regulations.gov/docket/FMCSA-2023-0181/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Background

FMCSA registers for-hire motor carriers under 49 U.S.C. 13902, surface freight forwarders under 49 U.S.C. 13903, and property brokers under 49 U.S.C. 13904. Each registration is effective from the date specified under 49 U.S.C. 13905(c). “Procedures for changing the name or business form of a motor carrier, freight forwarder, or property broker,” (49 CFR 365.413) states that motor carriers, forwarders, and brokers must submit the required information to FMCSA's Office of Registration requesting the change. Paragraph (f) of 49 CFR 360.3 mentions fees that FMCSA collects for “petition for reinstatement of revoked operating authority,” but does not provide any specifics for the content that petition should take.

Motor carriers, freight forwarders, and property brokers are required to use Form MCSA-5889 to request a name or address change and to request reinstatement of a revoked operating authority. Respondents can submit the form online through the Licensing and Insurance (L&I) website, by fax, or by mail. According to data collected between 2020 and 2022, annually, approximately 1 percent of forms are submitted by mail; 7 percent are submitted by fax; and 92 percent are submitted online. The information collected is then entered in the L&I database by FMCSA staff.

Form MCSA-5889 enables FMCSA to maintain up-to-date records so that the Agency can recognize the entity in question in case of enforcement actions or other procedures required to ensure that the carrier is fit, willing, and able to provide for-hire transportation services, and so that entities whose operating authority has been revoked can resume operation if they are not otherwise blocked from doing so. This multi-purpose form, filed by registrants on a voluntary, as-needed basis, simplifies the process of gathering the information needed to process the entities' requests in a timely manner, with the least amount of effort for all parties involved.

The form prompts users to report the following data points (whichever are relevant to their records change request):

1. Requestor's fax number, email address, and applicant's oath.

2. Entity's legal/doing business as names, USDOT number, docket MC/MX/FX number, current street address, and phone number(s).

3. Affiliations with FMCSA-licensed entities.

4. Requested changes to the entity's address.

5. Requested changes to the entity's name and/or ownership, management, or control.

6. Type(s) of operating authority the entity wishes to reinstate.

7. Credit card information (name, number, expiration date, address, date) if filing a name change or reinstatement.

Changes From Previous Estimates

The currently approved version of this ICR estimated the average annual burden to be 6,781 annual burden hours, with 27,122 total annual respondents. For this renewal the estimated average annual burden is 16,168, with 64,673 total average annual respondents. The annual burden hour increase of 9,387 is due to the increase in average annual respondents.

Title: Motor Carrier Records Change Form.

OMB Control Number: 2126-0060.

Type of Request: Renewal of a currently approved ICR.

Respondents: For-hire motor carriers, brokers, and freight forwarders.

Estimated Number of Respondents: 64,673.

Estimated Time per Response: 15 minutes per response.

Expiration Date: July 31, 2024.

Frequency of Response: On occasion.

Estimated Total Annual Burden: 16,168.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.

Thomas P. Keane,
Associate Administrator, Office of Research and Registration.

[FR Doc. 2023-27457 Filed 12-13-23; 8:45 am]

BILLING CODE 4910-EX-P